DEPARTMENT OF THE INTERIOR

National Park Service

[NPS-WASO-NAGPRA-NPS0039004; PPWOCRADN0-PCU00RP14.R50000]

Notice of Intended Disposition: U.S. Army Corps of Engineers, Albuquerque District, Albuquerque, New Mexico

AGENCY: National Park Service, Interior.

ACTION: Notice.

SUMMARY: In accordance with the Native American Graves Protection and Repatriation Act (NAGPRA), the U.S. Army Corps of Engineers, Albuquerque District intends to carry out the disposition of human remains removed from Federal or Tribal lands to the lineal descendants, Indian Tribe, or Native Hawaiian organization with priority for disposition in this notice.

DATES: Disposition of the human remains in this notice may occur on or after December 12, 2024. If no claim for disposition is received by November 12, 2025, the human remains in this notice will become unclaimed human remains.

ADDRESSES: Jeremy Decker, U.S. Army Corps of Engineers, Albuquerque District, 4101 Jefferson Plaza NE, Albuquerque, NM 87109, telephone (505) 342-3671, email jeremy.t.decker@usace.army.mil.

SUPPLEMENTARY INFORMATION: This notice is published as part of the National Park Service's administrative responsibilities under NAGPRA. The determinations in this notice are the sole responsibility of the U.S. Army Corps of Engineers, Albuquerque District and additional information on the human remains or cultural items in this notice, including the results of consultation, can be found in the related records. The National Park Service is not responsible for the identifications in this notice.

Abstract of Information Available

Based on the information available, human remains representing, at least, four individuals have been reasonably identified. No associated funerary objects are present. The individuals, including two adult females, and one adult male, along with 11 additional fragments from comingled or isolated contexts and representing, at a minimum, a fourth individual, were removed from the Leone Bluff site, 5LA1211, in Las Animas County, Colorado. Wave action associated with increased lake levels at Trinidad Reservoir in 1999 and 2000 contributed to a significant increase in slumping and erosion of cultural deposits at the site. As water levels fell, artifacts and human remains eroded from those deposits were scattered across the surface of a wave-cut terrace that surrounded the site. The remains were discovered on May 28, 2000. The remains were later collected on June 3-7, 2000, and the excavation of additional human remains exposed by receding water levels was conducted between August 7th and August 30th, 2000.

Determinations

U.S. Army Corps of Engineers, Albuquerque District, has determined that:

• The human remains described in this notice represent the physical remains of four individuals of Native American ancestry.

• The Jicarilla Apache Nation, New Mexico has priority for disposition of the human remains described in this notice.

Claims for Disposition

Written claims for disposition of the human remains in this notice must be sent to the appropriate official identified in this notice under ADDRESSES. If no claim for disposition is received by November 12, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after December 12, 2024. If competing claims for disposition are received, the U.S. Army Corps of Engineers, Albuquerque District, must determine the most appropriate claimant prior to disposition. Requests for joint disposition of the human remains are considered a single request and not competing requests. The U.S. Army Corps of Engineers, Albuquerque District is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: October 29, 2024.
Melanie O'Brien,
Manager, National NAGPRA Program.

[FR Doc. 2024-26088 Filed 11-8-24; 8:45 am]

BILLING CODE 4312-52-P